NATIONAL SCIENCE FOUNDATION

Notice of Intent To Seek Approval To Renew an Information Collection

AGENCY: National Science Foundation.

ACTION: Notice and request for comments.

SUMMARY: The National Science Foundation (NSF) is announcing plans to request OMB's approval to renew this collection. In accordance with the requirements of the Paperwork Reduction Act of 1995, we are providing an opportunity for public comment on this action. After obtaining and considering public comment, NSF will prepare a submission requesting OMB clearance for this collection for no longer than three years.

DATES: Interested persons are invited to send comments regarding the burden or any other aspect of this collection of information by April 7, 2025.

FOR FURTHER INFORMATION CONTACT: Suzanne H. Plimpton, Reports Clearance Officer, National Science Foundation, 2415 Eisenhower Ave., Rm. E6347, Alexandria, VA 22314; telephone: (703) 292-7556; email: splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Comments: Written comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; or (d) ways to minimize the burden of the collection of information on those who are to respond, including through the use of appropriate automated, electronic, mechanical, or other technological collection techniques or other forms of information technology.

Title of Collection: Grantee Reporting Requirements for the Research Experiences for Undergraduates (REU) Program.

OMB Approval Number: 3145-0224.

Expiration Date: June 30, 2025.

Overview of Information Collection: NSF's Research Experiences for Undergraduates (REU) program funds REU Site grants and REU Supplements to organizations to provide authentic research experiences and related training for postsecondary students in STEM fields.

All NSF Principal Investigators in all programs are required to submit annual and final project reports through the NSF Project Reports System in Research.gov. The REU Program Module is a component of the NSF Project Reports System that is designed to gather basic information about the pool of student applicants and participants in REU Site and REU Supplement projects. The information allows NSF to assess the demand and allocate resources for REU student positions within each discipline, to analyze the types of academic institutions and the educational levels represented by the participants, and to identify the participants for inclusion in periodic program evaluations.

NSF is committed to providing stakeholders with information regarding the expenditure of taxpayer funds on its investments in human capital, including activities such as REU Sites and REU Supplements. If NSF could not collect information about the students who participate in undergraduate research experiences, NSF would have no other means to consistently document the number and diversity of the participants or to identify the participants for inclusion in efforts that gauge the quality of programmatic activities and the long-term effects of the activities on the students. Without the REU Program Module, NSF also would not have information about the competitiveness of the REU opportunities, which informs the management of the program's budget.

Consultation With Other Agencies and the Public

This information collection is specific to a subset of NSF grantees. NSF has not consulted with other agencies but has gathered information from its grantee community through attendance at PI conferences. A request for public comments will be solicited through announcement of data collection in the Federal Register.

Background

All NSF Principal Investigators are required to use the project reporting functionality in Research.gov to report on progress, accomplishments, participants, and activities annually and at the conclusion of their project. Information from annual and final reports provides yearly updates on project inputs, activities, and outcomes for use by NSF program officers in monitoring projects and for agency reporting purposes.

If project participants include undergraduate students supported by a Research Experiences for Undergraduates (REU) Sites grant or by an REU Supplement, then the Principal Investigator is required to complete the REU Program Module in addition to the questions in NSF's standard report template.

Respondents: Individuals (Principal Investigators).

Number of Principal Investigator Respondents: 3,900 annually.

Burden on the Public: 650 total hours.

Dated: January 29, 2025.
Suzanne H. Plimpton,
Reports Clearance Officer, National Science Foundation.

[FR Doc. 2025-02137 Filed 2-3-25; 8:45 am]

BILLING CODE 7555-01-P